BUREAU OF CONSUMER FINANCIAL PROTECTION

Consumer Advisory Board Subcommittee Meetings

AGENCY: Bureau of Consumer Financial Protection.

ACTION: Notice of public meeting.

SUMMARY: Under the Federal Advisory Committee Act (FACA), this notice sets forth the announcement of a public meeting of the Consumer Advisory Board (CAB or Board) of the Bureau of Consumer Financial Protection (Bureau). The notice also describes the functions of the Board.

DATES: The meeting date is Thursday, December 6, 2018, from approximately 1 p.m. to 3:45 p.m. eastern daylight time. The meeting will take place via conference call.

Access: The subcommittee meetings will be conducted via conference call and are open to the general public. Members of the public will receive the agenda and dial-in information when they RSVP.

FOR FURTHER INFORMATION CONTACT: Crystal Dully, Outreach and Engagement Associate, Advisory Board and Councils Office, External Affairs, at 202-435-9588, CFPB_CABandCouncilsEvents@cfpb.gov. If you require this document in an alternative electronic format, please contact CFPB_Accessibility@cfpb.gov.

SUPPLEMENTARY INFORMATION:

I. Background

Section 3 of the Charter of the Consumer Advisory Board states that:

The purpose of the Board is outlined in section 1014(a) of the Dodd-Frank Act, which states that the Board shall “advise and consult with the Bureau in the exercise of its functions under the Federal consumer financial laws” and “provide information on emerging practices in the consumer financial products or services industry, including regional trends, concerns, and other relevant information.”

To carry out the Board's purpose, the scope of its activities shall include providing information, analysis, and recommendations to the Bureau. The Board will generally serve as a vehicle for market intelligence and expertise for the Bureau. Its objectives will include identifying and assessing the impact on consumers and other market participants of new, emerging, and changing products, practices, or services.

II. Agenda

The Consumer Advisory Board will discuss artificial intelligence in consumer financial services and consumer access to financial records.

Persons who need a reasonable accommodation to participate should contact CFPB_504Request@cfpb.gov, 202-435-9EEO, 1-855-233-0362, or 202-435-9742 (TTY) at least ten business days prior to the meeting or event to request assistance. The request must identify the date, time, location, and title of the meeting or event, the nature of the assistance requested, and contact information for the requester. CFPB will strive to provide, but cannot guarantee that accommodation will be provided for late requests.

Written comments will be accepted from interested members of the public and should be sent to CFPB_CABandCouncilsEvents@cfpb.gov, a minimum of seven (7) days in advance of the meeting. The comments will be provided to the CAB members for consideration. Individuals who wish to join the Consumer Advisory Board must RSVP via this link https://consumer-financial-protection-bureau.forms.fm/bcfp-advisory-board-and-councils-december-conference-call by noon, December 5, 2018. Members of the public must RSVP by the due date.

III. Availability

The Board's agenda will be made available to the public on Wednesday November 21, 2018, via consumerfinance.gov. A summary of this meeting will be available after the meeting on the Bureau's website consumerfinance.gov.

Dated: November 16, 2018.
Kirsten Sutton,
Chief of Staff, Bureau of Consumer Financial Protection.

[FR Doc. 2018-25420 Filed 11-20-18; 8:45 am]

BILLING CODE 4810-AM-P